DEPARTMENT OF HOUSING AND URBAN DEVELOPMENT

[Docket No. FR-7092-N-09]

Privacy Act of 1974; System of Records

AGENCY: Office of Policy Development and Research, HUD.

ACTION: Notice of a new system of records.

SUMMARY: Pursuant to the provisions of the Privacy Act of 1974, as amended, the Department of the Housing and Urban Development (HUD), Office of Policy Development & Research (PD&R) is issuing a public notice of its intent to establish a Privacy Act system of records titled “Moving to Work (MTW) Asset Building Cohort Evaluation Data Files.” The purpose of the system is to serve as a repository that stores and maintains statistically analyzed data collected to evaluate asset building programs implemented by the Public Housing Agencies (PHAs) participating in the Moving to Work (MTW) Asset Building Cohort.

DATES: Comments will be accepted on or before February 22, 2024. This proposed action will be effective on the date following the end of the comment period unless comments are received which result in a contrary determination.

ADDRESSES: You may submit comments, identified by docket number, by one of the following methods:

Federal e-Rulemaking Portal: https://www.regulations.gov. Follow the instructions provided on that site to submit comments electronically.

Fax: 202-619-8365

Email: privacy@hud.gov.

Mail: Attention: Privacy Office; LaDonne White, Chief Privacy Officer; Office of the Executive Secretariat; 451 Seventh Street SW, Room 10139; Washington, DC 20410-0001.

Instructions: All submissions received must include the agency name and docket number for this rulemaking. All comments received will be posted without change to https://www.regulations.gov. including any personal information provided.

Docket: For access to the docket to read background documents or comments received go to https://www.regulations.gov.

FOR FURTHER INFORMATION CONTACT: The Privacy Office; LaDonne White; 451 Seventh Street SW, Room 10139; Washington, DC 20410; telephone number (202) 708-3054 (this is not a toll-free number). HUD welcomes and is prepared to receive calls from individuals who are deaf or hard of hearing, as well as individuals with speech or communication disabilities. To learn more about how to make an accessible telephone call, please visit https://www.fcc.gov/consumers/guides/telecommunications-relay-service-trs.

SUPPLEMENTARY INFORMATION: The Consolidated Appropriations Act of 2016 authorized HUD to award Moving to Work (MTW) authority to 100 additional Public Housing Authorities (PHAs) by September 2023, and required that new MTW agencies be selected in cohorts with a specific policy focus. The participating PHAs will implement either a rent reporting for credit building program, an opt-out savings account program, or a PHA-designed asset building program. The Asset Building Cohort will test two types of asset building programs for HUD households, rent reporting for credit building and an opt-out savings account program. To enable rigorous evaluation, households will be randomly assigned to participate in the asset building program or be in the control group. Households assigned to the opt-out savings account program will be automatically enrolled and then informed that they have access to savings that the PHA is depositing into an escrow account for them, which will be a minimum of $10 a month for two years.

Moving to Work Asset Building Cohort Evaluation Data Files stores information needed to evaluate the impact of the asset building programs. The study sample for rent reporting will be drawn from households who volunteer to have their rental payments reported to credit agencies to build credit. To rigorously study the impact of rent reporting, volunteers will be randomly assigned to a treatment group for whom rental payments are reported or a control group for whom such reporting does not occur. The rent reporting study will include a longitudinal panel of families who will participate in qualitative, in-depth interviews to provide insight into how they understand and experience rent reporting for credit building. The evaluation of the MTW Asset Building Cohort will help HUD determine if asset building programs of the types studied can be effectively implemented by PHAs and if they positively impact the well-being of HUD-assisted households.

HUD researchers (including Abt Associates and MEF Associates) will use this information to examine household outcomes related to housing stability and financial wellbeing. Researchers will also seek to understand the experience of households participating in the asset building programs and the PHAs that implement the asset building programs. This System of Records will contain data necessary to evaluate the effect of these new asset building programs.

SYSTEM NAME AND NUMBER:

Moving to Work Asset Building Cohort Evaluation Data Files, HUD/PDR-11.

SECURITY CLASSIFICATION:

Unclassified

SYSTEM LOCATION:

Records are maintained at the following locations: Amazon Web Services, East, N. Virginia, and . 20945 Loudoun County Pkwy, Ashburn, VA 20147; and the U.S. Department of Housing and Urban Development Headquarters, 451 7th Street SW, Washington, DC 20410.

SYSTEM MANAGER(S):

Carol Star, Director, Program Evaluation Division, Office of Policy Development and Research, HUD, 451 Seventh Street SW, Washington, DC 20410, telephone number (202) 402-6139.

AUTHORITY FOR MAINTENANCE OF THE SYSTEM:

Sections 501 and 502 of the Housing and Urban Development Act of 1970 (Pub. L. 91-609) (12 U.S.C. 1701z-1; 1701z-2(d) and (g)).

PURPOSE(S) OF THE SYSTEM:

The Moving to Work Asset Building Cohort Evaluation data files will store the information that is needed to evaluate the impact of the asset building programs on HUD-assisted households. The information to be maintained in this records system is necessary to identify participating families and determine the effectiveness of the interventions. The data in this system will be analyzed using statistical methods and any results shared with the public or published in any way will be reported only in the aggregate. Resulting reports will not disclose or identify any individuals or sensitive personal information.

CATEGORIES OF INDIVIDUALS COVERED BY THE SYSTEM:

Families enrolled in the Moving to Work asset building programs.

CATEGORIES OF RECORDS IN THE SYSTEM:

Tenant data: Includes enrollment information, administrative data (including credit scores), and survey responses from tenants, including: head of household's full name, date of birth, social security number, unique study ID, home address, household composition, demographics of household members, measures of financial wellbeing, educational attainment, employment and income information, housing and housing subsidy information, receipt of non-housing public benefits, and contact information.

RECORD SOURCE CATEGORIES:

Moving to Work asset building program participants, HUD PIH Inventory Management System/PIH Information Center, Public Housing Agency information systems, Credit Bureau data.

ROUTINE USES OF RECORDS MAINTAINED IN THE SYSTEM, INCLUDING CATEGORIES OF USERS AND PURPOSES OF SUCH USES:

In addition to those disclosures generally permitted under 5 U.S.C. 552a(b) of the Privacy Act, HUD may disclose information in this system of records:

(1) Research and Statistical Analysis Disclosure Routine Use:

To contractors, grantees, experts, consultants, Federal agencies, and non-Federal entities, including, but not limited to, State and local governments and other research institutions or their parties, and entities and their agents with whom HUD has a contract, service agreement, grant, or cooperative agreement, or other agreement for the purposes of statistical analysis and research in support of program operations, management, performance monitoring, evaluation, risk management, and policy development, or to otherwise support the Department's mission. Records under this routine use may not be used in whole or in part to make decisions that affect the rights, benefits, or privileges of specific individuals. Research reports and other analysis conducted under this routine use may not disclose identifiable information; all results must be reported in the aggregate and must ensure that no individual is identifiable.

(2) Data Breach Remediation Purposes Routine Use:

(a) To appropriate agencies, entities, and persons when: (1) HUD suspects or has confirmed there a breach in the system of records; (2) HUD has determined that as a result of the suspected or confirmed breach there is a risk of harm to individuals, HUD (including its information systems, programs, and operations), the Federal Government, or national security; and (3) The disclosure made to such agencies, entities, and persons is reasonably necessary to assist with HUD's efforts to respond to the suspected or confirmed breach or to prevent, minimize, or remedy such harm.

(b) To another Federal agency or Federal entity, when HUD determines that information from this system of records is reasonably necessary to assist the recipient agency or entity in (1) responding to suspected or confirmed breach, or (2) preventing, minimizing, or remedying the risk of harm to individuals, the recipient agency or entity (including its information systems, programs, and operations), the Federal Government, or national security, resulting from a suspected or confirmed breach.

(3) Contractor Routine Use:

To contractors, grantees, experts, consultants and their agents, or others performing or working under a contract, service, grant, cooperative agreement, or other agreement with HUD, when necessary to accomplish an agency function related to a system of records. Disclosure requirements are limited to only those data elements considered relevant to accomplishing an agency function.

POLICIES AND PRACTICES FOR STORAGE OF RECORDS:

Electronic and Paper.

POLICIES AND PRACTICES FOR RETRIEVAL OF RECORDS:

Name, Social Security Number, the unique study ID, home address, telephone number, and personal email address.

POLICIES AND PRACTICES FOR RETENTION AND DISPOSAL OF RECORDS:

Temporary. Destroy upon verification of successful creation of the final document or file, or when no longer needed for business use, whichever is later.

ADMINISTRATIVE, TECHNICAL, AND PHYSICAL SAFEGUARDS:

For Electronic Records: All personal data will be maintained on a secure workstation or server that is protected by a firewall and complex passwords in a directory that can only be accessed by the network administrators and the analysts actively working on the data; access rights to the data are granted to limited researchers on a need-to-know basis, and the level of access provided to each researcher is based on the minimal level required for that individual to fulfill their research role; all systems used to process or store data have Federal security controls applied to them; the data will be backed up on a regular basis to safeguard against system failures or disasters; and, unencrypted data will never be stored on a laptop or on a movable media such as CDs, diskettes, or USB flash drives.

For Paper Records: The site interviewers will securely store any hard copy forms with personal identifiers until they are shipped to the evaluation contractor via commercial mail services; all hard copy forms with personal identifying data (the participant agreement/informed consent form) will be stored securely in a locked cabinet that can only be accessed by authorized individuals working on the data. The locked cabinet will be stored in a locked office in a limited-access building. Additionally, permissions will be defined for each authorized user based on the user's role on the project. Study data will be aggregated or de-identified at the highest level possible for each required, authorized use.

RECORD ACCESS PROCEDURES:

Individuals requesting records of themselves should address written inquiries to the Department of Housing Urban and Development 451 7th Street SW, Washington, DC 20410-0001. For verification, individuals should provide their full name, current address, and telephone number. In addition, the requester must provide either a notarized statement or an unsworn declaration made under 24 CFR 16.4.

CONTESTING RECORD PROCEDURES:

The HUD rule for contesting the content of any record pertaining to the individual by the individual concerned is published in 24 CFR 16.8 or may be obtained from the system manager.

NOTIFICATION PROCEDURES:

Individuals requesting notification of records of themselves should address written inquiries to the Department of Housing Urban Development, 451 7th Street SW, Washington, DC 20410-0001. For verification purposes, individuals should provide their full name, office or organization where assigned, if applicable, and current address and telephone number. In addition, the requester must provide either a notarized statement or an unsworn declaration made under 24 CFR 16.4.

EXEMPTIONS PROMULGATED FOR THE SYSTEM:

None.

HISTORY:

N/A.

LaDonne L. White,
Chief Privacy Officer, Office of Administration.

[FR Doc. 2024-01219 Filed 1-22-24; 8:45 am]

BILLING CODE 4210-67-P